Executive Order 14058 of December 13, 2021

Transforming Federal Customer Experience and Service Delivery To Rebuild Trust in Government

By the authority vested in me as President by the Constitution and the laws of the United States of America, it is hereby ordered as follows:

Section 1. Purpose. Our Government must recommit to being “of the people, by the people, [and] for the people” in order to solve the complex 21st century challenges our Nation faces. Government must be held accountable for designing and delivering services with a focus on the actual experience of the people whom it is meant to serve. Government must also work to deliver services more equitably and effectively, especially for those who have been historically underserved. Strengthening the democratic process requires providing direct lines of feedback and mechanisms for engaging the American people in the design and improvement of Federal Government programs, processes, and services.

As the United States faces critical challenges, including recovering from a global pandemic, promoting prosperity and economic growth, advancing equity, and tackling the climate crisis, the needs of the people of the United States, informed by, in particular, an understanding of how they experience Government, should drive priorities for service delivery improvements. In recent years, the annual paperwork burden imposed by executive departments and agencies (agencies) on the public has been in excess of 9 billion hours. That number is too high. Agencies must work with the Congress; the private sector and nonprofit organizations; State, local, Tribal, and territorial governments; and other partners to design experiences with the Federal Government that effectively reduce administrative burdens, simplify both public-facing and internal processes to improve efficiency, and empower the Federal workforce to solve problems.

The Federal Government must design and deliver services in a manner that people of all abilities can navigate. We must use technology to modernize Government and implement services that are simple to use, accessible, equitable, protective, transparent, and responsive for all people of the United States. When a disaster survivor, single parent, immigrant, small business owner, or veteran waits months for the Government to process benefits to which they are entitled, that lost time is a significant cost not only for that individual, but in the aggregate, for our Nation as a whole. This lost time operates as a kind of tax—a “time tax”—and it imposes a serious burden on our people as they interact with the Government. Improving Government services should also make our Government more efficient and effective overall.

Every interaction between the Federal Government and the public, whether it involves renewing a passport or calling for a status update on a farm loan application, should be seen as an opportunity for the Government to save an individual's time (and thus reduce “time taxes”) and to deliver the level of service that the public expects and deserves. By demonstrating that its processes are effective and efficient, in addition to being fair, protective of privacy interests, and transparent, the Federal Government can build public trust. Further, the Federal Government's management of its customer experience and service delivery should be driven fundamentally by the voice of the customer through human-centered design methodologies; empirical customer research; an understanding of behavioral science and user testing, especially for digital services; and other mechanisms of engagement.

Executive Order 12862 of September 11, 1993 (Setting Customer Service Standards), required agencies that provide significant services directly to the public to identify and gather feedback from customers; establish service standards and measure performance against those standards; and benchmark customer service performance against the best customer experience provided in the private sector. Executive Order 13571 of April 27, 2011 (Streamlining Service Delivery and Improving Customer Service), further required agencies to develop a “Customer Service Plan . . . to address how the agency will provide services in a manner that seeks to streamline service delivery and improve the experience of its customers.” Executive Order 13707 of September 15, 2015 (Using Behavioral Science Insights To Better Serve the American People), called for the use of empirical findings in behavioral science fields to deliver better results for the American people, including by identifying “opportunities to help qualifying individuals, families, communities, and businesses access public programs and benefits.” And Executive Order 13985 of January 20, 2021 (Advancing Racial Equity and Support for Underserved Communities Through the Federal Government), established the policy of the Federal Government to “pursue a comprehensive approach to advancing equity for all, including people of color and others who have been historically underserved, marginalized, and adversely affected by persistent poverty and inequality.” Consistent with these aims, agencies have begun assessing whether, and to what extent, their programs and policies perpetuate systemic barriers to opportunities and benefits for people of color and other underserved groups. These previous actions have laid an important foundation for the policies and procedures set forth in this order. However, more is required to establish the sustained system for Federal Government accountability and performance necessary to drive an ongoing focus on improved delivery and results for the people of the United States.

Sec. 2. Policy. It is the policy of the United States that, in a Government of the people, by the people, and for the people, improving service delivery and customer experience should be fundamental priorities. The Government's performance must be measured empirically and by on-the-ground results for the people of the United States, especially for their experiences with services delivered. The means of Government—such as its budget, policy, financial management, procurement, and human resources practices—must work to achieve those ends. Agencies should continually improve their understanding of their customers, reduce administrative hurdles and paperwork burdens to minimize “time taxes,” enhance transparency, create greater efficiencies across Government, and redesign compliance-oriented processes to improve customer experience and more directly meet the needs of the people of the United States. Consistent with the purpose described in section 1 of this order, agencies' efforts to improve customer experience should include systematically identifying and resolving the root causes of customer experience challenges, regardless of whether the source of such challenges is statutory, regulatory, budgetary, technological, or process-based. Furthermore, to engender public trust, agencies must ensure that their efforts appropriately maintain or enhance protections afforded under law and policy, including those related to civil rights, civil liberties, privacy, confidentiality, and information security.

Sec. 3. Definitions. For purposes of this order:

(a) The term “customer” means any individual, business, or organization (such as a grantee or State, local, or Tribal entity) that interacts with an agency or program, either directly or through a federally-funded program administered by a contractor, nonprofit, or other Federal entity.

(b) The term “customer experience” means the public's perceptions of and overall satisfaction with interactions with an agency, product, or service.

(c) The term “customer life experience” means each important point in a person's life at which that person interacts with one or more entities of Government.

(d) The term “equity” means the consistent and systematic fair, just, and impartial treatment of all individuals, including individuals who belong to underserved communities that have been denied such treatment, such as Black, Latino, Indigenous and Native American persons, Asian Americans and Pacific Islanders, and other persons of color; members of religious minorities; lesbian, gay, bisexual, transgender, and queer (LGBTQ+) persons; persons with disabilities; persons who live in rural areas; and persons otherwise adversely affected by persistent poverty or inequality.

(e) The term “High Impact Service Provider” (HISP) means a Federal entity, as designated by the Director of the Office of Management and Budget (OMB), that provides or funds customer-facing services, including Federal services administered at the State or local level, that have a high impact on the public, whether because of a large customer base or a critical effect on those served.

(f) The term “human-centered design” means an interdisciplinary methodology of putting people, including those who will use or be impacted by what one creates, at the center of any process to solve challenging problems.

(g) The term “service delivery” means actions by the Federal Government related to providing a benefit or service to a customer of a Federal Government entity. Such actions pertain to all points of the Government-to-customer delivery process, including when a customer applies for a benefit or loan, receives a service such as health care or small business counseling, requests a document such as a passport or Social Security card, files taxes or declares goods, uses resources such as a park or historical site, or seeks information such as notices about public health or consumer protection.

Sec. 4. Agency Actions to Improve Customer Experience. (a) The Secretary of State shall design and deliver a new online passport renewal experience that does not require any physical documents to be mailed.

(b) The Secretary of the Treasury shall design and deliver new online tools and services to ease the payment of taxes and provide the option to schedule customer support telephone call-backs. The Secretary of the Treasury should consider whether such tools and services might include expanded automatic direct deposit refunds based on prior year tax returns, tax credit eligibility tools, and expanded electronic filing options.

(c) The Secretary of the Interior shall redesign the website of the Fish and Wildlife Service, FWS.gov, in compliance with the 21st Century Integrated Digital Experience Act (Public Law 115-336), and shall support a centralized, modernized electronic permitting system to accept and process applications for permits. Such a system might include special use permits for the National Wildlife Refuge System and for at least five high-volume permit application forms required for individuals and businesses who import or export fish, wildlife, and plants and their products internationally.

(d) The Secretary of Agriculture shall:

(i) test the use of the Special Supplemental Nutrition Program for Women, Infants, and Children (WIC) benefits for online purchasing;

(ii) identify opportunities to reduce individuals' and families' burdens by simplifying enrollment and recertification for nutrition assistance programs such as the Supplemental Nutrition Assistance Program (SNAP) and the WIC, including expanding the use of direct certification; and

(iii) design and implement a simplified direct farm loan application process.

(e) The Secretary of Labor shall:

(i) update existing rules and policies, consistent with applicable law and to the extent practicable, to allow individuals entitled to medical treatment under their workers' compensation plans to conduct their routine medical treatment appointments using telehealth platforms; and

(ii) update rules, policies, and procedures to eliminate, consistent with applicable law and to the extent practicable, requirements for workers' compensation claimants to submit physical documents, but to retain the option for physical submission for claimants who cannot otherwise submit them.

(f) The Secretary of Health and Human Services shall:

(i) continue to design and deliver new, personalized online tools and expanded customer support options for Medicare enrollees;

(ii) strengthen requirements for maternal health quality measurement, including measuring perinatal quality and patient care experiences, and evaluating the measurements by race and ethnicity to aim to better identify inequities in maternal health care delivery and outcomes;

(iii) to the maximum extent permitted by law, support coordination between benefit programs to ensure applicants and beneficiaries in one program are automatically enrolled in other programs for which they are eligible;

(iv) to the maximum extent permitted by law, support streamlining State enrollment and renewal processes and removing barriers, including by eliminating face-to-face interview requirements and requiring prepopulated electronic renewal forms, to ensure eligible individuals are automatically enrolled in and retain access to critical benefit programs;

(v) develop guidance for entities regulated pursuant to the Health Insurance Portability and Accountability Act (HIPAA) on providing telehealth in compliance with HIPAA rules, to improve patient experience and convenience following the end of the COVID-19 public health emergency; and

(vi) test methods to automate patient access to electronic prenatal, birth, and postpartum health records (including lab results, genetic tests, ultrasound images, and clinical notes) to improve patient experiences in maternity care, health outcomes, and equity.

(g) The Secretary of Education shall:

(i) consider providing eligible recipients of student aid under Title IV of the Higher Education Act of 1965 (Public Law 89-329), as amended, with the option to receive information about certain benefits and services for which they may qualify; and

(ii) design and deliver a repayment portal capability on StudentAid.gov for Direct Loan borrowers.

(h) The Secretary of Veterans Affairs shall:

(i) provide digital services through a single, integrated, and equitable digital platform on VA.gov and the VA mobile app; and

(ii) provide on-demand customer support through the channels that work best for customers, including personalized online chat with a virtual or live agent.

(i) The Secretary of Homeland Security shall:

(i) test the use of innovative technologies at airport security checkpoints to reduce passenger wait times;

(ii) provide new opportunities for customers to connect with the Transportation Security Administration, including as appropriate, online chat, improved communication during additional screenings, and additional mechanisms to provide customer feedback;

(iii) design and deliver a streamlined, online disaster assistance application; and

(iv) work with States to proactively update existing rules and policies on supporting documentation needed for disaster assistance processes to reduce burden and increase accessibility.

(j) The Administrator of the Small Business Administration shall:

(i) establish baseline experience measures for key small business application processes in areas such as loans, grants, and certifications; and

(ii) design and deliver a streamlined online disaster assistance application experience.

(k) The Commissioner of Social Security shall:

(i) within 120 days of the date of this order, provide a report to the Director of OMB that analyzes all services of the Social Security Administration that currently require original or physical documentation or in-person appearance as an element of identity or evidence authentication, and that identifies potential opportunities for policy reforms that can support modernized customer experiences while ensuring original or physical documentation requirements remain where there is a statutory or strong policy rationale;

(ii) develop a mobile-accessible, online process so that any individual applying for or receiving services from the Social Security Administration can upload forms, documentation, evidence, or correspondence associated with their transaction without the need for service-specific tools or traveling to a field office;

(iii) consistent with applicable law and to the extent practicable, maintain a public policy of technology neutrality with respect to acceptable forms of electronic signatures;

(iv) consistent with applicable law and to the extent practicable, revise any necessary regulations, forms, instructions, or other sources of guidance (to include the Program Operations Manual System of the Social Security Administration) to remove requirements that members of the public provide physical signatures; and

(v) to the maximum extent permitted by law, support applicants and beneficiaries to identify other benefits for which they may be eligible and integrate Social Security Administration data and processes with those of other Federal and State entities whenever possible.

(l) The Administrator of General Services shall:

(i) develop a roadmap for a redesigned USA.gov website that aims to serve as a centralized, digital “Federal Front Door” from which customers may navigate to all Government benefits, services, and programs, and features streamlined content, processes, and technologies that use human-centered design to meet customer needs, including consolidating content currently appearing on Benefits.gov, Grants.gov, and other appropriate websites; and

(ii) dedicate multi-disciplinary design and development teams to support priority projects of HISPs that will be selected and funded each fiscal year in consultation with the Director of OMB.

(m) The Administrator of the United States Agency for International Development (USAID) shall review and revise, as appropriate, regulations, forms, instructions, or other sources of guidance relating to the application for grants and cooperative agreements in countries in which USAID works to ensure that such policies are clear and intelligible, do not contain unjustified administrative burdens or excessive paperwork requirements, and do not place undue burdens on local organizations and underserved communities.

(n) Joint Agency Actions:

(i) The Secretary of Veterans Affairs and the Administrator of General Services shall collaborate to provide seamless integration of Login.gov accounts to allow customers to access VA.gov, the VA mobile application, and other customer-facing digital products and to eliminate outdated and duplicate customer sign-in options.

(ii) The Secretary of the Treasury, the Secretary of Defense, the Secretary of Education, and the Director of the Office of Personnel Management shall collaborate to enable a more streamlined Public Service Loan Forgiveness process for eligible borrowers, including those who serve in the United States Armed Forces or as civil servants, or who work for eligible nonprofit organizations.

(iii) The Director of OMB, including through the Administrator of the United States Digital Service, shall collaborate across the Federal Government with multiple agencies and their respective customers in order to conduct human-centered design research and document customer experience challenges related to accessing grant programs to which Tribal governments are entitled, and shall propose ways to streamline processes and reduce administrative burdens on Tribal government customers.

(iv) The Director of OMB, through the Administrator of the United States Digital Service; the Administrator of General Services; and the Postmaster General are encouraged to collaborate on ways to update mailing address records across Government so that members of the public may change their respective mailing addresses for purposes of all Government services only once, through the United States Postal Service.

Sec. 5. Government-wide Actions to Improve Customer Experience. Customers often navigate services across multiple agencies in specific moments of need, such as when they are seeking financing for their businesses or experiencing food insecurity. In such situations, relevant agencies should coordinate their service delivery to achieve an integrated experience that meets customer needs through the exchange of data with appropriate privacy protections.

Such coordination may include providing States that administer elements of Federal services with guidance and flexibilities with respect to the elements of Federal programs they administer. Such coordination would allow both Federal and State government entities to maximize their respective expertise and improve efficiency. To further the policy set forth in this section:

(a) Within 90 days of the date of this order, and on a regular basis thereafter, the Deputy Director for Management of OMB and other members of the President's Management Council (PMC) shall work with the Assistant to the President and Chief of Staff, the Assistant to the President for Domestic Policy, and the Assistant to the President for Economic Policy to select a limited number of customer life experiences to prioritize for Government-wide action to improve customer experience.

(b) The Deputy Director for Management of OMB and other members of the PMC, in consultation with the Assistant to the President for Domestic Policy, the Assistant to the President for Economic Policy, and relevant interagency teams coordinated by OMB, shall organize appropriate leadership structures to assess customer life experiences selected pursuant to subsection (a) of this section, work to develop measurable improvements for such customer life experiences that involve multiple agencies, develop prospective plans for rigorously testing that use appropriate empirical methods on which approaches work best, and share lessons learned across the Federal Government.

(c) Within 180 days of the date of this order and every 6 months thereafter, the Deputy Director for Management of OMB and other members of the PMC, through the Deputy Director for Management of OMB, shall report to the Assistant to the President and Chief of Staff on the status of the actions described in subsection (b) of this section.

(d) The Director of OMB shall work with the head of each relevant agency to help resolve issues related to overlapping responsibilities among agencies, work to address barriers to serving customers across multiple agencies, and coordinate activities to improve customer experience or service delivery when primary responsibility among multiple agencies is unclear.

(e) Within 120 days of the date of this order, the Administrator of the Office of Electronic Government and the Administrator of the Office of Information and Regulatory Affairs within OMB, in consultation with relevant interagency councils (including the Chief Information Officers Council, the Federal Privacy Council, the Chief Data Officer Council, the Evaluation Officer Council, and the Interagency Council on Statistical Policy), shall coordinate their current, respective efforts to develop guidance for agencies, ensuring that such guidance incorporates opportunities to:

(i) improve the efficiency and effectiveness of data sharing and support processes among agencies and with State and local governments; and

(ii) streamline the process for agencies to provide services to State and local governments, consistent with applicable law.

(f) Within 120 days of the date of this order, the Administrator of the Office of Information and Regulatory Affairs shall provide guidance for agencies on:

(i) identifying specific steps to reduce information collection burdens on customers to enhance access across agencies; and

(ii) clarifying and updating recommendations and flexibilities under the Paperwork Reduction Act (44 U.S.C. 3501 et seq.), including to facilitate stakeholder engagement and feedback processes to support the implementation of this order.

(g) Within 180 days of the date of this order, the Administrator of General Services shall submit to the Director of OMB a roadmap for the development of prioritized common services and standards (such as the United States Web Design System or systems for login and identity management), platforms (such as notification capabilities), and digital products (such as USA.gov) that support increased efficiency, integration, and improved service delivery of designated customer life experiences.

Sec. 6. Ongoing Accountability for Federal Service Delivery. (a) The Director of OMB shall designate as HISPs those Federal entities that provide or fund customer-facing services, including Federal services administered at the State or local level, that have a high impact on the public, whether because of a large customer base or a critical effect on those served. The Director of OMB shall maintain a list of designated HISPS and may update this list at any time.

(b) The Secretary of State, the Secretary of the Treasury, the Secretary of the Interior, the Secretary of Agriculture, the Secretary of Commerce, the Secretary of Labor, the Secretary of Health and Human Services, the Secretary of Housing and Urban Development, the Secretary of Transportation, the Secretary of Education, the Secretary of Veterans Affairs, the Secretary of Homeland Security, the Administrator of the Small Business Administration, the Commissioner of Social Security, the Administrator of General Services, the Administrator of the United States Agency for International Development, and the Director of the Office of Personnel Management shall each submit to the Director of OMB a report including an assessment of the improvements needed in each agency's customer experience management and service design capabilities in light of this order, to be prioritized within each agency's respective available and budgeted resources.

(c) The head of each HISP shall, in consultation with the Deputy Director for Management of OMB, annually designate a limited number of services for prioritized improvement (designated services). Identification of designated services should be based on the moments that matter most to the individuals served, as illustrated through human-centered design and other research, and on those services' public-facing nature, the number of individuals served, the volume of transactions, the total Federal dollars spent, the safety and protection of lives, or the critical nature of the services provided in the lives of the individuals they serve.

(d) The Deputy Director for Management of OMB shall issue guidance for HISPs that outlines an annual process for assessing their capacity to manage customer experience, assessing their performance of designated services through meaningful measures from the perspective of the public and planning for the improvement of the customer experience. Assessments should include, as appropriate, the identification of customer experience challenges experienced by customers of the HISP in the form of administrative burdens or other barriers, informed by experiential data (including, as appropriate, through randomized controlled trials or other rigorous program evaluation); ethnographic research; feedback from public engagement; human-centered design methodologies such as journey mapping; operational and administrative data analysis; direct observations; examination, from a customer perspective, of how to navigate the agency's service offerings, apply for a benefit, or comply with a requirement of the agency; observations of customer interaction with the agency's website or application processes and tools; or observations of customer support service delivery such as activities at call centers. Informed by findings from these assessments, plans for improvement should include, as appropriate, actions such as conducting outreach to the public about the agency's programs and other Federal programs for which those served by the agency may be eligible, providing assistance to members of the public enrolling in the agency's programs and other Federal programs, streamlining and improving accessibility of forms and digital experiences, eliminating unnecessary administrative burdens on customers, ensuring the accessibility of services for customers with disabilities and those with limited English proficiency, developing targeted actions to advance equity for communities that face inequitable barriers to service access, or engaging in other efforts to coordinate with other agencies to reduce the need for those they serve to interact separately with multiple agencies.

(e) The Director of OMB shall establish a team within OMB to lead and support agency customer experience initiatives as well as such initiatives that reach across agencies, including by facilitating the decision-making processes needed to achieve the objectives of this order; coordinating HISP activities as outlined in this order; and developing strategies for the integration of services and development of products involving multiple agencies as contemplated in this order.

(f) All agencies, whether identified in this section or not, are urged to apply guidance issued pursuant to subsection (d) of this section to improve their service delivery.

Sec. 7. Additional Agency Actions to Improve Customer Experience. The heads of agencies shall:

(a) integrate activities to improve customer experience, as appropriate and consistent with applicable law, into their respective:

(i) agency strategic plans developed pursuant to section 306(a) of title 5, United States Code;

(ii) Agency Performance Plans developed pursuant to sections 1115 and 1116 of title 31, United States Code;

(iii) portions of performance plans relating to human and capital resource requirements to achieve performance goals pursuant to section 1115(g) of title 31, United States Code;

(iv) agency priority goals developed pursuant to section 1120 of title 31, United States Code;

(v) selection of items for their respective regulatory agendas and plans pursuant to subsections 4(b) and (c) of Executive Order 12866 of September 30, 1993 (Regulatory Planning and Review), as amended;

(vi) individual performance plans for senior executives consistent with section 4312 of title 5, United States Code, and for other senior employees consistent with section 4302 of title 5, United States Code; and

(vii) as permitted by law, any other agency activities, acquisitions, and strategies that the Director of OMB determines to be appropriate to further the implementation of the policy articulated in this order;

(b) direct all of their respective program offices to apply the guidance from OMB's Office of Information and Regulatory Affairs described in section 5(f) of this order, as well as the requirements of the Paperwork Reduction Act related to collections of information, consistently with guidance contained in the Office of Information and Regulatory Affairs Memorandum of July 22, 2016 (Flexibilities under the Paperwork Reduction Act for Compliance with Information Collection Requirements), which provides that the Paperwork Reduction Act does not apply to agencies' general solicitations of public views and feedback, certain ratings and rankings of Federal services by members of the public using Government websites, or direct observations of users interacting with digital tools and products;

(c) direct all of their respective program offices to identify opportunities to apply policies, including those set forth in subsections 1(a) and (b) of Executive Order 13707, and to engage in promising practices such as the advance testing of information collections described in the Office of Information and Regulatory Affairs Memorandum of August 9, 2012 (Testing and Simplifying Federal Forms);

(d) identify opportunities, as appropriate and consistent with applicable law, to modify their respective agencies' regulations, internal and public-facing guidance, and policies to include positive and equitable customer experiences and service delivery as part of their respective agencies' missions; issue internal directives or policies on customer experience and service delivery to articulate how their respective agencies' strategies and missions relate to customer experience and service delivery outcomes; and promote coordination within and among their respective agencies concerning those customer life experiences that cut across agency or agency component responsibilities;

(e) improve the digital customer experience for their respective agencies' customers by modernizing agency websites, using human-centered design methodologies, digitizing agency services and forms, modernizing records management, updating network infrastructure and mobility capabilities, and accelerating the use of electronic signatures when aligned with policy priorities, as required by the 21st Century Integrated Digital Experience Act (44 U.S.C. 3501 note); and

(f) identify means by which their respective agencies can improve transparency and accessibility through their compliance with the Plain Writing Act of 2010 (Public Law 111-274) and related requirements and guidance.

Sec. 8. OMB Guidance. The Director of OMB shall review and update OMB Government-wide guidance and supporting processes (such as information collection reviews or data sharing approvals) as necessary and applicable, to ensure conformity with this order and to assist agencies in improving their service delivery and customer experience.

Sec. 9. Independent Agencies. Independent agencies are strongly encouraged to comply with the provisions of this order.

Sec. 10. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 13, 2021.

[FR Doc. 2021-27380

Filed 12-15-21; 8:45 am]

Billing code 3395-F2-P